DEPARTMENT OF STATE

[Public Notice 5020]

U.S. Advisory Commission on Public Diplomacy; Notice of Meeting

The U.S. Advisory Commission on Public Diplomacy will hold a meeting at the U.S. State Department, 301 4th St., SW., Washington, DC on April 13, 2005, at 9 a.m. The Commissioners will review efforts that expand interagency coordination of public diplomacy programs to increase their effectiveness in communicating with foreign audiences.

The Commission was reauthorized pursuant to Pub. L. 106-113 (H.R. 3194, Consolidated Appropriations Act, 2000). It's Charter was renewed February 18, 2005. The U.S. Advisory Commission on Public Diplomacy is a bipartisan Presidentially appointed panel created by Congress in 1948 to provide oversight of U.S. Government activities intended to understand, inform and influence foreign publics. The Commission reports its findings and recommendations to the President, the Congress and the Secretary of State and the American people. Current Commission members include Barbara M. Barrett of Arizona, who is the chairman; Harold Pachios of Maine; Jay T. Snyder of New York; Maria Sophia Aguirre of Washington, DC; Charles “Tre” Evers of Florida; Ambassador Elizabeth Bagley of Washington, DC; and Ambassador Penne Korth Peacock of Washington, DC.

For more information, please contact Razvigor Bazala at 202.203.7880.

Dated: March 29, 2005.
Razvigor Bazala,
Acting Executive Director, IIP/ACPD, Department of State.

[FR Doc. 05-6705 Filed 4-4-05; 8:45 am]

BILLING CODE 4710-11-P